FEDERAL COMMUNICATIONS COMMISSION

47 CFR Part 15

[DA 01-446]

Emissions From Digital Devices

AGENCY: Federal Communications Commission.

ACTION: Final rule.

SUMMARY: This document adopts rules regarding limits on conducted and radiated emissions from unintentional radiators in order to update the references to Publication 22 of the International Electrotechnical Commission.

DATES: Effective May 14, 2001. The incorporation by reference of certain publications in this rule is approved by the Director of Federal Register as of May 14, 2001.

FOR FURTHER INFORMATION CONTACT: John Reed, Office of Engineering and Technology, (202) 418-2455.

SUPPLEMENTARY INFORMATION: This is a summary of the Commission's Order, DA 01-446, adopted February 27, 2001, and released February 28, 2001. The full text of this Commission decision is available on the Commission's Internet site at www.fcc.gov. It is available for inspection and copying during normal business hours in the FCC Reference Information Center, Room CY-A257, 445 12th Street, SW., Washington, DC, and also may be purchased from the Commission's duplication contractor, International Transcription Service, (202) 857-3800, 1231 20th Street, NW., Washington, DC 20036.

Summary of the Order

1. On December 3, 1999, the Information Technology Industry Council (“ITI”) filed a request to amend 47 CFR 15.107(e) and 15.109(g) of the Commission's rules regarding limits on conducted and radiated emissions from unintentional radiators in order to update the references to Publication 22 of the International Electrotechnical Commission (“IEC”), International Special Committee on Radio Interference (“CISPR”). Currently, the Commission rules reference the First Edition of CISPR Publication 22 (1985) along with several Draft International Standards (“DIS”) that were adopted in 1992. ITI points out that the First Edition of CISPR Publication 22 is no longer published and is becoming difficult to find. Accordingly, ITI requests that the Commission amend its rules to reference the Third Edition of CISPR Publication 22 (1997). ITI also requests that the Commission specifically exclude the limits in CISPR Publication 22 (1997) for conducted common mode disturbance at telecommunications ports. ITI adds that such testing would require the use of stabilization networks that generally are not available. Further, ITI is not aware of any history of interference complaints in this area.

2. We note that the standards contained in CISPR Publication 22 (1997) on the amount of energy allowed to be conducted onto the public utility (AC) power lines or radiated from a device are the same as those contained in CISPR Publication 22 (1985) as amended by the 1992 Draft International Standards. Thus, amending the rules to reference CISPR Publication 22 (1997) would not result in a change to the regulations and would simplify the task of obtaining copies of this publication. We also note that the existing references within the Commission's rules to the CISPR Publication 22 standards apply only to the levels of emissions conducted onto AC power lines and to the levels of emissions radiated from a digital device. Accordingly, there is no limit in the Commission's rules for conducted common mode disturbance at telecommunications ports. Therefore, for the sake of clarity we will incorporate ITI's suggested language excluding the limits in CISPR Publication 22 for conducted common mode disturbance at telecommunications ports.

3. In accordance with Section 553 of the Administrative Procedures Act, a Notice of Proposed Rule Making is not required when the agency for good cause finds, and incorporates the finding and a brief statement of reasons therefore in the rules issued, that notice and public procedure thereon are unnecessary. In this case, we find that the amendment to the regulations does not result in any changes to the equipment standards. The amendment is ministerial in nature and is being made only to reference a more recent publication so as to facilitate obtaining these standards. Accordingly, public notice and comment are not necessary.

4. Accordingly, part 15 of the Commission's Rules and Regulations Is Amended effective May 14, 2001. This action is taken pursuant to the authority found in §§ 0.31 and 0.241 of the regulations.

List of Subjects in 47 CFR Part 15

Communications equipment, Incorporation by reference.

Federal Communications Commission.
Magalie Roman Salas,
Secretary.

Rule Changes

For the reasons discussed in the preamble, the Federal Communications Commission amends 47 CFR part 15 as follows:

PART 15—RADIO FREQUENCY DEVICES

1. The authority citation for part 15 continues to read as follows:

Authority: 47 U.S.C. 154, 302, 303, 304, 307, 336 and 544A.

2. Section 15.107 is amended by revising paragraph (e) introductory text and by adding a new paragraph (e)(3), to read as follows:

§ 15.107 Conducted limits.

* * * * *

(e) As an alternative to the conducted limits shown in paragraphs (a) and (b) of this section, digital devices may be shown to comply with the standards contained in the Third Edition of International Electrotechnical Commission (“IEC”), International Special Committee on Radio Interference (CISPR) Pub. 22 (1997), “Information Technology Equipment—Radio Disturbance Characteristics—Limits and Methods of Measurement.” This incorporation by reference was approved by the Director of the Federal Register in accordance with 5 U.S.C. 552(a) and 1 CFR part 51. Copies of CISPR publications may be purchased from Global Engineering Documents, P. O. Box 8500 (S-4485), Philadelphia, PA 19178-4485, (303) 792-2181 or (800) 624-3974. Copies also may be inspected, but not reproduced, during normal business hours at the following locations: Federal Communications Commission, Reference Information Center, 445 12th Street, SW., Room CY-A257, Washington, DC, and Office of the Federal Register, 800 North Capitol Street, NW., Suite 700, Washington, DC. In addition:

* * * * *

(3) Part 15 devices are not subject to the CISPR 22 limits on conducted common mode disturbance at telecommunication ports, as shown in Section 5.2 of CISPR, Tables 3 and 4.

* * * * *

3. Section 15.109 is amended by revising paragraph (g) introductory text to read as follows:

§ 15.109 Radiated emission limits.

* * * * *

(g) As an alternative to the radiated emission limits shown in paragraphs (a) and (b) of this section, digital devices may be shown to comply with the standards contained in the Third Edition of International Electrotechnical Commission (“IEC”), International Special Committee on Radio Interference (CISPR) Pub. 22 (1997), “Information Technology Equipment—Radio Disturbance Characteristics—Limits and Methods of Measurement.” This incorporation by reference was approved by the Director of the Federal Register in accordance with 5 U.S.C. 552(a) and 1 CFR part 51. Copies of CISPR publications may be purchased from the Global Engineering Documents, P. O. Box 8500 (S-4485), Philadelphia, PA 19178-4485, (303) 792-2181 or (800) 624-3974. Copies also may be inspected, but not reproduced, during normal business hours at the following locations: Federal Communications Commission, Reference Information Center, Room CY-A257, 445 12th Street, SW., Washington, DC, and Office of the Federal Register, 800 North Capitol Street, NW., Suite 700, Washington, DC. In addition:

* * * * *

[FR Doc. 01-9108 Filed 4-12-01; 8:45 am]

BILLING CODE 6712-01-P